FEDERAL COMMUNICATIONS COMMISSION

[GN Docket No. 18-122; DA 20-599; FRS 16864]

Wireless Telecommunications Bureau Announces Relocation Payment Clearinghouse Request for Proposal, Selection Criteria, and Application Deadlines in 3.7-4.2 GHz Band Transition

AGENCY: Federal Communications Commission.

ACTION: Notice.

SUMMARY: In this document, the Federal Communications Commission (Commission) announces that that it has received a Request for Proposal, which contains the selection criteria and filing instructions for proposals for the position of Relocation Payment Clearinghouse (Clearinghouse) in the 3.7-4.2 GHz band (C-band) transition.

DATES: Entities must file proposals electronically with the search committee, according to the filing instructions contained in the Request for Proposal, by June 29, 2020.

ADDRESSES: Federal Communications Commission, 445 12th Street SW, Washington, DC 20554.

FOR FURTHER INFORMATION CONTACT: Susan Mort of the Wireless Telecommunications Bureau, at (202) 418-2429 or Susan.Mort@fcc.gov.

SUPPLEMENTARY INFORMATION: This is a summary of the Commission's Public Notice in GN Docket No. 18-122, DA 20-599 released June 8, 2020. The full text of the Public Notice is available for inspection and copying during normal business hours in the FCC Reference Center, 445 12th Street SW, Room CY-A257, Washington, DC 20554, or by downloading the text from the Commission's website at https://ecfsapi.fcc.gov/file/06082630229367/DA-20-599A1.pdf and https://ecfsapi.fcc.gov/file/06082630229367/DA-20-599A2.pdf. Alternative formats are available for people with disabilities (Braille, large print, electronic files, audio format), by sending an email to FCC504@fcc.gov or calling the Consumer and Governmental Affairs Bureau at (202) 418-0530 (voice), (202) 418-0432 (TTY).

Synopsis

With this Public Notice, the Wireless Telecommunications Bureau (the Bureau) announces that it has received a Request for Proposal, which contains the selection criteria and filing instructions for proposals for the position of Clearinghouse in the C-band transition. In the 3.7 GHz Band Report and Order, the Commission adopted rules to make 280 megahertz of mid-band spectrum available for flexible use, plus a 20 megahertz guard band, throughout the contiguous United States by transitioning existing services out of the lower portion of the band and into the upper 200 megahertz of the C-band. The 3.7 GHz Band Report and Order provided for the creation of a neutral, independent Clearinghouse to oversee the cost-related aspects of the transition, including collecting relocation payments from new 3.7 GHz Service licensees and disbursing those payments to incumbents. In the 3.7 GHz Band Report and Order, the Commission invited a committee of stakeholders in the C-band to establish detailed selection criteria and to select the Clearinghouse. The 3.7 GHz Band Report and Order directed the Bureau to issue a Public Notice that: (1) Notified the public that the search committee had published criteria for the selection of the Clearinghouse; (2) outlined the submission requirements; and (3) provided the closing dates for the selection of the Clearinghouse. The search committee submitted the Request for Proposal to the Commission on June 1, 2020.

The search committee's Request for Proposal, attached to this Public Notice, details the selection criteria and instructions for filing proposals for the Clearinghouse position. Entities must file proposals electronically with the search committee, according to the filing instructions contained in the Request for Proposal, by June 29, 2020.

People with Disabilities: To request materials in accessible formats for people with disabilities (braille, large print, electronic files, audio format), send an email to fcc504@fcc.gov or call the Consumer & Government Affairs Bureau at 202-418-0530 (voice, 202-418-0432 (tty).

Federal Communications Commission.
Amy Brett,
Associate Division Chief, Competition and Infrastructure Policy Division, Wireless Telecommunications Bureau.

[FR Doc. 2020-13213 Filed 6-18-20; 8:45 am]

BILLING CODE 6712-01-P